DEPARTMENT OF EDUCATION

34 CFR Part 303

RIN 1820-AB53

Early Intervention Program for Infants and Toddlers with Disabilities

AGENCY: Office of Special Education and Rehabilitative Services, Department of Education.

ACTION: Withdrawal of notice of proposed rulemaking.

SUMMARY: The Secretary withdraws the Notice of Proposed Rulemaking (NPRM) for the Early Intervention Program for Infants and Toddlers with Disabilities under Part C of the Individuals with Disabilities Education Act (IDEA) that was published on September 5, 2000. This action is taken because of the pending reauthorization of Part C of IDEA. All relevant comments received under the NPRM will be considered in developing the Administration's legislative proposal on IDEA, along with new comments submitted as part of the reauthorization process.

DATES: The NPRM published on September 5, 2000 at 65 FR 53808 is withdrawn as of January 10, 2002.

FOR FURTHER INFORMATION CONTACT: JoLeta Reynolds or Thomas Irvin (202) 205-5507. If you use a telecommunication device for the deaf (TDD), you may call the Federal Information Relay Service (FIRS) at 1-800-877-8339.

Individuals with disabilities may obtain the document in an alternative format (e.g., Braille, large print, audiotape, or computer diskette) on request to Katie Mincey, Director of the Alternate Format Center. Telephone: (202) 205-8113.

SUPPLEMENTARY INFORMATION: On September 5, 2000, the Secretary published a notice of proposed rulemaking (NPRM) in the Federal Register (65 FR 53808) to amend the regulations governing the Early Intervention Program for Infants and Toddlers with Disabilities (34 CFR part 303). In the NPRM, we requested comments and recommendations on a number of provisions, including those related to the provision of early intervention services in “natural environments,” State financing of early intervention services, and proposed new provisions to address the use of public and private insurance by States.

The number and quality of comments received on the NPRM demonstrated an intense interest in these and other provisions in the Part C regulations. However, because Part C of IDEA expires on September 30, 2002 and must be reauthorized, we believe that any changes to the existing regulations before the statute is reauthorized—especially given the relatively brief period that these regulations would remain in effect—would be counterproductive.

We believe that it would be more efficient and effective to delay the issuance of any new regulations for the Part C program until after the IDEA is reauthorized. This will add stability to the implementation of Part C, and ensure the development of more comprehensive and complete regulations for the early intervention program that should remain in effect, without change, for an extended period of time.

For the reasons we have described in the preceding paragraphs, the Secretary withdraws the NPRM for the Early Intervention Program for Infants and Toddlers with Disabilities that was published on September 5, 2000.

In developing the Administration's proposal regarding the reauthorization of IDEA, we will consider all relevant comments received in response to the NPRM published on September 5, 2000, together with new comments submitted as part of the reauthorization process.

The Secretary is publishing in this issue of the Federal Register a Notice of request for public comment on the Individuals with Disabilities Education Act and its implementation. We encourage you to submit additional comments regarding the Early Intervention Program under Part C and to address any of the questions raised in the accompanying Notice.

Electronic Access to This Document

You may view this document, as well as all other Department of Education documents published in the Federal Register, in text or Adobe Portable Document Format (PDF) on the Internet at the following site: www.ed.gov/legislation/FedRegister

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.access.gpo.gov/nara/index.html

(Catalog of Federal Domestic Assistance Number: 84.181 Early Intervention Program for Infants and Toddlers with Disabilities)

List of Subjects in 34 CFR Part 303

Education of individuals with disabilities, Grant programs—education, Infants and toddlers, Reporting and recordkeeping requirements.

Dated: December 28, 2001.
Loretta L. Petty,
Acting Assistant Secretary for Special Education and Rehabilitative Services.

[FR Doc. 02-622 Filed 1-9-02; 8:45 am]

BILLING CODE 4000-01-U